DEPARTMENT OF DEFENSE

Office of the Secretary

[Transmittal No. 17-47]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-47 with attached Policy Justification and Sensitivity of Technology.

Dated: November 28, 2017.
Aaron Siegel,
Alternate OSD Federal Register Liaison Officer, Department of Defense.

BILLING CODE 5001-06-P

BILLING CODE 5001-06-C

Transmittal No. 17-47

Notice of Proposed Issuance of Letter of Offer Pursuant to Section 36(b)(1) of the Arms Export Control Act, as amended

(i) Prospective Purchaser: Government of the Czech Republic

(ii) Total Estimated Value:

—
Major Defense Equipment* | $335.9 million
Other | $239.1 million
Total | $575.0 million

(iii) Description and Quantity or Quantities of Articles or Services under Consideration for Purchase:

Major Defense Equipment (MDE):

Twelve (12) UH-1Y Utility Helicopters

Twenty-five (25) T-700 GE 401C Engines (twenty-four (24) installed, one (1) spare)

Thirteen (13) Honeywell Embedded Global Positioning Systems (GPS)/Inertial Navigation System (INS) (EGI) (twelve (12) installed, one (1) spare)

Twelve (12) 7.62mm M240 Machine Guns

Non-MDE includes:

Brite Star II FLIR system, Aircraft Survivability Equipment (ASE) (includes the AN/AAR-47 Missile Warning and Laser Detection System, AN/ALE-47 Counter Measure Dispensing System (CMDS) and the AN/APR-39 Radar Warning Receiver (RWR)), Joint Mission Planning Systems, Helmet Mounted Displays, communication equipment, small caliber gun systems including GAU-17A and GAU-21, electronic warfare systems, Identification Friend or Foe (IFF) Mode 4/5 transponder, support equipment, spare engine containers, spare and repair parts, tools and test equipment, technical data and publications, personnel training and training equipment, U.S. government and contractor engineering, technical, and logistics support services, and other related elements of logistics and program support.

(iv) Military Department: Navy

(v) Prior Related Cases, if any: None

(vi) Sales Commission, Fee, etc., Paid, Offered, or Agreed to be Paid: None

(vii) Sensitivity of Technology Contained in the Defense Article or Defense Services

Proposed to be Sold: See Attached Annex

(viii) Date Report Delivered to Congress: October 11, 2017

* As defined in Section 47(6) of the Arms Export Control Act.

POLICY JUSTIFICATION

Czech Republic—UH-1Y Utility Helicopters

The Government of the Czech Republic has requested the possible sale of twelve (12) UH-1Y utility helicopters, twenty-five (25) T-700 GE 401C engines (twenty-four (24) installed, one (1) spare), thirteen (13) Honeywell Embedded GPS/INS (EGI) (twelve (12) installed, one (1) spare), and twelve (12) 7.62mm M240 Machine Guns. This request also includes Brite Star II FLIR system, Aircraft Survivability Equipment (ASE) (includes the AN/AAR-47 Missile Warning and Laser Detection System, AN/ALE-47 Counter Measure Dispensing System (CMDS) and the AN/APR-39 Radar Warning Receiver (RWR)), Joint Mission Planning Systems, Helmet Mounted Displays, communication equipment, small caliber gun systems including GAU-17A and GAU-21, electronic warfare systems, Identification Friend or Foe (IFF) Mode 4/5 transponder, support equipment, spare engine containers, spare and repair parts, tools and test equipment, technical data and publications, personnel training and training equipment, U.S. government and contractor engineering, technical, and logistics support services, and other related elements of logistics and program support. The estimated cost is $575 million.

This proposed sale will support the foreign policy and national security of the United States by helping to improve the security of a NATO partner that is an important force for ensuring peace and stability in Europe. The proposed sale will support the Czech Republic's needs for its own self-defense and support NATO defense goals.

The Czech Republic intends to use these helicopters to modernize its armed forces and strengthen its homeland defense and deter regional threats. This will contribute to the Czech Republic's military goal of updating its capabilities while further enhancing interoperability with the United States and other NATO allies. The Czech Republic will have no difficulty absorbing these helicopters into its armed forces.

This proposed sale of equipment and support will not alter the basic military balance in the region.

The principal contractors will be Bell Helicopter, Textron, Fort Worth, Texas; and General Electric Company, Lynn, Massachusetts. There are no known offset agreements proposed in conjunction with this potential sale.

Implementation of this proposed sale will require multiple trips by U.S. Government and contractor representatives to participate in program and technical reviews plus training and maintenance support in country, on a temporary basis, for a period of twenty-four (24) months. It will also require three (3) Contractor Engineering Technical Service (CETS) representatives to reside in country for a period of two (2) years to support this program.

There will be no adverse impact on U.S. defense readiness as a result of this proposed sale.

Transmittal No. 17-47

Notice of Proposed Issuance of Letter of Offer Pursuant to Section 36(b)(1) of the Arms Export Control Act

Annex

Item No. vii

(vii) Sensitivity of Technology:

1. The following components and technical documentation for the program are classified as listed below:

a. The UH-1Y-model has an Integrated Avionics System (IAS) which includes two (2) mission computers and an automatic flight control system. Each crew station has two (2) 8×6-inch multifunction liquid crystal displays (LCD) and one (1) 4.2×4.2-inch dual function LCD display. The communications suite will have COMSEC ARC-210 Ultra High Frequency Very High Frequency (UHF/VHF) radios with associated communications equipment. The navigation suite includes Honeywell Embedded Global Positioning System (GPS) Inertial Navigation System (INS) (EGI) w/Precise Positioning Service (PPS), a digital map system, a low-airspeed air data subsystem, and an AN/APX-123/A(V) IFF Transponder.

b. The crew is equipped with the Optimized Top Owl (OTO) helmet-mounted sight and display system. The OTO has a Day Display Module (DDM) and a Night Display Module (NDM). The UH-1Y has survivability equipment including the AN/AAR-47 Missile Warning and Laser Detection System, AN/ALE-47 Counter Measure Dispensing System (CMDS) and the AN/APR-39 Radar Warning Receiver (RWR) to cover countermeasure dispensers, radar warning, incoming/on-way missile warning and on fuselage laser-spot warning systems.

c. The following performance data and technical characteristics are classified as follows for the UH-1Y Airframe: countermeasure capability—up to SECRET, counter-countermeasures capability—SECRET, vulnerability to countermeasures—SECRET, vulnerability to electromagnetic pulse from nuclear environmental effects—SECRET.

2. If a technologically advanced adversary were to obtain knowledge of the specific hardware and software elements, the information could be used to develop countermeasures which might reduce weapon system effectiveness.

3. The consequences of the loss of this technology to a technologically advanced or competent adversary could result in the compromise of equivalent systems, which in turn could reduce those weapons systems' effectiveness, or be used in the development of a system with similar or advanced capabilities.

4. A determination has been made that the Czech Republic can provide substantially the same degree of protection for the sensitive technology being released as the U.S. Government. This sale of the UH-1Y helicopter and associated weapons will further U.S. foreign policy and national security objectives.

5. All defense articles and services listed in this transmittal are authorized for release and export to the Government of the Czech Republic.

[FR Doc. 2017-26006 Filed 12-1-17; 8:45 am]

BILLING CODE 5001-06-P